DEPARTMENT OF THE TREASURY

Internal Revenue Service

26 CFR Parts 1 and 301

[REG-105316-98 and REG-161424-01]

RIN 1545-AW67 and 1545-BA43

Information Reporting for Qualified Tuition and Related Expenses; Magnetic Media Filing Requirements for Information Returns; Cancellation

AGENCY: Internal Revenue Service (IRS), Treasury.

ACTION: Cancellation of notice of public hearing on proposed rulemaking.

SUMMARY: This document provides notice of cancellation of a public hearing on proposed regulations under section 6050S of the Internal Revenue Code.

DATES: The public hearing originally scheduled for August 13, 2002, at 10 a.m., is cancelled.

FOR FURTHER INFORMATION CONTACT: Treena Garrett of the Regulations Unit, Associate Chief Counsel (Income Tax and Accounting), (202) 622-7180 (not a toll-free number).

SUPPLEMENTARY INFORMATION: A notice of proposed rulemaking and notice of public hearing that appeared in the Federal Register on April 29, 2002, (67 FR 20923), announced that a public hearing was scheduled for August 13, 2002, at 10 a.m., Internal Revenue Service Building, 1111 Constitution Avenue, NW, Washington, DC. The subject of the public hearing is proposed regulations under section 6050S of the Internal Revenue Code. The public comment period for these proposed regulations expired on July 29, 2002.

The notice of proposed rulemaking and notice of public hearing, instructed those interested in testifying at the public hearing to submit a request to speak and an outline of the topics to be addressed. As of August 1, 2002, no one has requested to speak. Therefore, the public hearing scheduled for August 13, 2002, is cancelled.

LaNita Van Dyke,
Acting Chief, Regulations Unit, Associate Chief Counsel, (Income Tax and Accounting).

[FR Doc. 02-19833 Filed 8-5-02; 8:45 am]

BILLING CODE 4830-01-P